DEPARTMENT OF ENERGY

Federal Energy Regulatory Commission

Notice of FERC Staff Attendance at the Entergy Regional State Committee Meeting

The Federal Energy Regulatory Commission (Commission) hereby gives notice that members of its staff may attend the meeting noted below. Their attendance is part of the Commission's ongoing outreach efforts.

Entergy Regional State Committee

April 25, 2014 (9:30 A.M.-1:30 P.M.)

This meeting will be held at the Capital Hotel, 111 West Markham Street, Little Rock, AR 72201.

The discussions may address matters at issue in the following proceedings:

Docket No. EL01-88: Louisiana Public Service Commission v. Entergy Services, Inc.

Docket No. EL09-50: Louisiana Public Service Commission v. Entergy Services, Inc.

Docket No. EL09-61: Louisiana Public Service Commission v. Entergy Services, Inc.

Docket No. EL10-55: Louisiana Public Service Commission v. Entergy Services, Inc.

Docket No. EL10-65: Louisiana Public Service Commission v. Entergy Services, Inc.

Docket No. EL11-57: Louisiana Public Service Commission v. Entergy Services, Inc., et al.

Docket No. EL11-34: Midwest Independent Transmission System Operator, Inc. v. Southwest Power Pool, Inc.

Docket No. EL11-63: Louisiana Public Service Commission v. Entergy Services, Inc.

Docket No. EL11-65: Louisiana Public Service Commission v. Entergy Services, Inc.

Docket No. EL13-41: Occidental Chemical Company v. Midwest Independent System Transmission Operator, Inc.

Docket No. EL13-43: Council of the City of New Orleans, Mississippi Public Service Commission, Arkansas Public Service Commission, Public Utility Commission of Texas, Louisiana Public Service Commission

Docket No. EL14-21: Southwest Power Pool, Inc. v. Midcontinent Independent System Operator, Inc.

Docket No. EL11-30: Midcontinent Independent System Operator, Inc. v. Southwest Power Pool, Inc.

Docket No. ER05-1065: Entergy Services, Inc.

Docket No. ER07-682 Entergy Services, Inc.

Docket No. ER07-956: Entergy Services, Inc.

Docket No. ER08-1056: Entergy Services, Inc.

Docket No. ER09-1224: Entergy Services, Inc.

Docket No. ER10-794: Entergy Services, Inc.

Docket No. ER10-1350: Entergy Services, Inc.

Docket No. ER10-2001: Entergy Arkansas, Inc.

Docket No. ER10-3357: Entergy Arkansas, Inc.

Docket No. ER11-2161: Entergy Texas, Inc.

Docket No. ER12-480: Midwest Independent Transmission System Operator, Inc.

Docket No. ER12-1384: Entergy Arkansas, Inc.

Docket No. ER12-1385: Entergy Gulf States Louisiana, L.L.C.

Docket No. ER12-1386: Entergy Louisiana, LLC

Docket No. ER12-1387: Entergy Mississippi, Inc.

Docket No. ER12-1388: Entergy New Orleans, Inc.

Docket No. ER12-1390: Entergy Texas, Inc.

Docket No. ER12-1428: Entergy Arkansas, Inc.

Docket No. ER13-432: Entergy Services, Inc.

Docket No. ER13-769: Entergy Arkansas, Inc. and Entergy Mississippi, Inc.

Docket No. ER13-770: Entergy Arkansas, Inc. and Entergy Louisiana, LLC.

Docket No. ER13-868: Midwest Independent Transmission System Operator, Inc.

Docket No. ER13-948: Entergy Services, Inc.

Docket No. ER13-1194: Entergy Services, Inc.

Docket No. ER13-1195: Entergy Services, Inc.

Docket No. ER13-1508: Entergy Arkansas, Inc.

Docket No. ER13-1509 Entergy Gulf States Louisiana, L.L.C.

Docket No. ER13-1510: Entergy Louisiana, LLC

Docket No. ER13-1511: Entergy Mississippi, Inc.

Docket No. ER13-1512: Entergy New Orleans, Inc.

Docket No. ER13-1513: Entergy Texas, Inc.

Docket No. ER13-1556: Entergy Services, Inc.

Docket No. ER13-1623: Entergy Services, Inc.

Docket No. EL14-19: Midcontinent Independent System Operator and Entergy Services, Inc.

Docket No. ER14-73: Entergy Services, Inc.

Docket No. ER14-75: Entergy Arkansas, Inc.

Docket No. ER14-76: Entergy Gulf States Louisiana, L.L.C.

Docket No. ER14-77: Entergy Louisiana, LLC

Docket No. ER14-78: Entergy Mississippi, Inc.

Docket No. ER14-79: Entergy New Orleans, Inc.

Docket No. ER14-80: Entergy Texas, Inc.

Docket No. ER14-89: Entergy Arkansas, Inc.

Docket No. ER14-98: Midcontinent Independent System Operator and Entergy Services, Inc.

Entergy Services, Inc.

Docket No. ER14-107: Midcontinent Independent System Operator

Docket No. ER14-108: Entergy Services, Inc.

Docket No. ER14-128: Entergy Texas, Inc.

Docket No. ER14-134: Entergy Arkansas, Inc.

Docket No. ER14-148: Midcontinent Independent System Operator

Docket No. ER14-1174: Southwest Power Pool, Inc.

These meetings are open to the public.

For more information, contact Patrick Clarey, Office of Energy Market Regulation, Federal Energy Regulatory Commission at (317) 249-5937 or patrick.clarey@ferc.gov.

Dated: April 17, 2014.
Kimberly D. Bose,
Secretary.

[FR Doc. 2014-09330 Filed 4-23-14; 8:45 am]

BILLING CODE 6717-01-P